DEPARTMENT OF JUSTICE

Notice of Lodging of Proposed Consent Decree Under the Clean Air Act

On January 17, 2013, the Department of Justice lodged a proposed Consent Decree with the United States District Court for the District of Utah in the lawsuit captioned United States v. Edge Products, L.L.C., Civil Action No. 1:13-cv-00010TS .

Edge Products, L.L.C. is an aftermarket motor vehicle parts manufacturer located in Ogden, Utah. In the Complaint, filed on January 17, 2013, on behalf of the Environmental Protection Agency (“EPA”), the United States alleges that Edge violated the Clean Air Act by manufacturing and selling aftermarket motor vehicle devices that were designed to hinder or disable required emission controls on certain model year 2007 and later heavy duty diesel trucks. The manufacture and sale of such devices for use on motor vehicles is prohibited by Section 203(a)(3)(B) of the Clean Air Act, 42 U.S.C. 7522(a)(3)(B).

The proposed Consent Decree, lodged on January 17, 2013, resolves the allegations in the Complaint. The terms of the Consent Decree include a prohibition on the manufacture and sale of specified devices; a recall and reimbursement program intended to get the devices off of vehicles and to keep them out of the stream of commerce; a wood-stove replacement project designed to mitigate the harm from the estimated 158 tons of excess particulate emissions EPA attributed to the use of the devices; and a civil penalty of $500,000. The amount of the civil penalty is based on the United States' evaluation of Edge's ability to pay a penalty.

The publication of this notice opens a period for public comment on the proposed Consent Decree. Comments should be addressed to the Assistant Attorney General, Environment and Natural Resources Division, and should refer to United States v. Edge Products, L.L.C.,, D.J. Ref. No. 90-5-2-1-10425. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $12.00 (25 cents per page reproduction cost) payable to the United States Treasury.

Karen Dworkin,
Assistant Section Chief, Environmental Enforcement Section, Environment and Natural Resources Division.

[FR Doc. 2013-01387 Filed 1-23-13; 8:45 am]

BILLING CODE 4410-15-P